DEPARTMENT OF THE INTERIOR

Bureau of Land Management

[LLCA930000-L14400000-ET0000; CACA-59497 et al. MO#4500160635]

Notice of Proposed Withdrawal Extension of 10 Secretary's Orders, 2 Public Land Orders and 1 Bureau of Land Management Order, as Modified by Public Land Order No. 7262, and Public Meeting, California

AGENCY: Bureau of Land Management, Interior.

ACTION: Notice of proposed extension.

SUMMARY: The Secretary of the Interior proposes to extend for an additional 20-year term, subject to valid existing rights, 10 Secretary's Orders (SO), 2 Public Land Orders (PLO), and 1 Bureau of Land Management Order (BLMO), as modified by PLO No. 7262, affecting 145,644.03 acres of Federal lands for the All-American Canal, Boulder Canyon, Colorado River Storage, Senator Wash Pump Storage, and Yuma Reclamation Projects. The lands would remain closed to surface entry and mining but have been and will remain open to mineral leasing. This notice provides a public comment period and announces that the Bureau of Reclamation (USBR) and the Bureau of Land Management (BLM) will host a public meeting regarding this proposal.

DATES: The BLM must receive all comments by June 9, 2022. The BLM and USBR will hold a virtual public meeting in connection with the proposed withdrawal extension on April 25, 2022, at 5 p.m. Pacific Time. The BLM will publish the date and instructions for access to the online public meeting in a local paper newspaper a minimum of 30 days prior to the meeting.

ADDRESSES: All comments should be sent to the BLM California State Director, 2800 Cottage Way W-1928, Sacramento, CA 95825-1886. Records, maps, and copies of the legal descriptions relating to the application are available through mailed request by contacting the BLM Public Room at: Bureau of Land Management California State Office, Public Room, 2800 Cottage Way W-1928, Sacramento, CA 95825-1886.

FOR FURTHER INFORMATION CONTACT: Heather Daniels, BLM California State Office, telephone: (916) 978-4674, email: hdaniels@blm.gov; or Luis Rodriguez, USBR Yuma Area Office, telephone: (928) 343-8275, email: lrodriguez@usbr.gov, during regular business hours, 8:00 a.m. to 4:30 p.m. Monday through Friday, except holidays.

Individuals in the United States who are deaf, deafblind, hard of hearing, or have a speech disability may dial 711 (TTY, TDD, or TeleBraille) to access telecommunications relay services for contacting Ms. Daniels. Individuals outside the United States should use the relay services offered within their country to make international calls to the point-of-contact in the United States.

SUPPLEMENTARY INFORMATION: The USBR submitted a petition/application to the Secretary of the Interior that the Secretary extend the withdrawals modified by PLO No. 7262, effective July 7, 1997 (62 FR 30613), as corrected on July 16, 2003 (68 FR 42128), for an additional 20-year term pursuant to Section 204 of the Federal Land Policy and Management Act of 1976 (90 Stat. 2751, 43 U.S.C. 1714.), subject to valid existing rights. PLO 7262 modified the following 10 SOs, 2 PLOs, and 1 BLMO:

(a) SO dated October 24, 1944 (CACA 7074);

(b) SO dated October 16, 1931 (CACA 7101);

(c) SO dated February 19, 1929 (CACA 7103);

(d) SO dated January 31, 1903 (CACA 7231);

(e) SO dated April 2, 1909 (CACA 7232);

(f) SO dated February 28, 1918 (CACA 7234);

(g) SO dated March 15, 1919 (CACA 7235);

(h) SO dated October 19, 1920 (CACA 7236);

(i) SO dated July 26, 1929 (CACA 7238);

(j) SO dated June 4, 1930 (CACA 7239);

(k) PLO No. 3262 dated October 29, 1963 (CARI 01051);

(l) PLO No. 4690 dated September 15, 1969 (CARI 07752);

(m) BLMO dated July 23, 1947 (CACA 7073).

The Deputy Secretary approved this petition/application; therefore, the request has become a Secretarial proposal for withdrawal extension.

The land description for this application is as follows:

San Bernardino Meridian, California

All-American Canal Project

SO of February 19, 1929 (c)(CACA 7103)

T. 5 S., R. 23 E.,

Sec. 14, E½;

Sec. 27, N½, SW¼, N½SE¼, and SW¼SE¼;

Sec. 28, lots 1 thru 4, W½NE¼, W½SE¼, and W½;

Sec. 33, lots 1 thru 5;

Sec. 34, NW¼NW¼.

The areas described for Secretary's Order of February 19, 1929, aggregate 1,804.09 acres.

The total areas described for the All-American Canal Project aggregate 1,804.09 acres in Riverside County, California.

Boulder Canyon Project

PLO No. 4690 of September 15, 1969 (l)(CARI 07752)

T. 7 S., R. 7 E.,

Sec. 10, NE¼NE¼, NE¼NW¼NE¼, E½SE¼NE¼, and E½NE¼SE¼.

The areas described for PLO No. 4690 of September 15, 1969, contain 90.00 acres.

The total areas described for the Boulder Canyon Project contain 90.00 acres in Riverside County, California.

Colorado River Storage Project

BLMO of July 23, 1947 (m)(CACA 7073)

T. 7 S., R. 10 E.,

Sec. 34, E½SW¼.

The areas described for Bureau of Land Management Order of July 23, 1947, contain 80.00 acres.

SO of October 24, 1944 (a)(CACA 7074)

T. 8 N., R. 22 E.,

Sec. 18, lots 1 thru 4, E½NW¼, E½SW¼, and E½.

The areas described for Secretary's Order of October 24, 1944, contain 627.22 acres.

SO of October 16, 1931 (b)(CACA 7101)

T. 10 N., R. 22 E.,

Sec. 7, lots 1 thru 4, E½NW¼, E½SW¼, and E½.

T. 3 S., R. 23 E.,

Secs. 15 and 22.

T. 9 N., R. 23 E.,

Sec. 30, lot 2.

The areas described for Secretary's Order of October 16, 1931, aggregate 1,945.98 acres.

SO of July 26, 1929 (i)(CACA7238)

T. 15 S., R. 23 E.,

Sec. 21, all;

Sec. 22, S½.

The areas described for Secretary's Order of July 26, 1929, contain 960.00 acres.

SO of June 4, 1930 (j) (CACA7239)

T. 1 S., R. 24 E.,

Sec. 32, lots 12, 14, 15, 18, and W½NW¼.

T. 7 S., R. 10 E.,

Sec. 32, S½NE¼, S½NW¼, and S½;

Sec. 34, W½SW¼.

T. 11 S., R. 15 E.,

Sec. 6, lot 3;

Sec. 8, N½NE¼, SE¼NE¼;

Sec. 18, SE¼SE¼;

Sec. 20, SW¼NW¼;

Secs. 22 and 26;

Sec. 28, SW¼NW¼.

T. 12 S., R. 16. E.,

Sec. 6, lot 9 and lots 14 thru 18;

Sec. 18, E½;

Sec. 20, all;

Sec. 21, NW¼SW¼ and S½SW¼;

Sec. 27, S½SW¼ and NW¼SW¼;

Sec. 28, S½, S½NE¼, NW¼NE¼, and NW¼;

Sec. 29, NE¼, NE¼NW¼, and NE¼SE¼;

Sec. 30, lot 7, lots 11 thru 14, and E½SW¼;

Sec. 31, lots 3 thru 6, and E½NW¼;

Sec. 34, E½, N½NW¼, SE¼NW¼;

Sec. 35, SW1/4.

T. 13 S., R. 17 E.,

Sec. 5, SW¼SW¼;

Sec. 6, lots 14 thru 16, lots 21 thru 25, lots 27 thru 29, N½SE¼, and SE¼SE¼;

Sec. 7, NE¼NE¼;

Sec. 8, SE¼SW¼NE¼, N½SW¼NE¼, SW¼SW¼NE¼, NW¼, E½SW¼, NW¼SE¼, and S½SE¼;

Sec. 17, N½NE¼ and SE¼NE¼;

Sec. 21, NE¼, NE¼NW¼, E½SE¼, and NW¼SE¼;

Sec. 22, S½SW¼ and NW¼SW¼;

Sec. 26, SW¼SW¼;

Sec. 27, W½NE¼, N½NW¼, SE¼NW¼, NE¼SW¼, and SE¼;

Sec. 34, E½NE¼;

Sec. 35, W½NW¼, SE¼NW¼, N½SW¼, SE¼SW¼, and SE¼.

T. 14 S., R. 18 E.,

Sec. 7, lots 2 thru 4 and SE¼SW¼;

Sec. 17, SW¼SW¼;

Sec. 18, lot 1, NE¼SW¼, SW¼NE¼, and E½NW¼;

Sec. 19, E½NE¼;

Sec. 20, SE¼SW¼, N½SW¼, W½SE¼, S½NW¼, and NW¼NW¼;

Sec. 28, SW¼ and SW¼NW¼;

Sec. 29, NE¼SE¼ and NE¼;

Sec. 33, SE¼SE¼, N½SE¼, NW¼NE¼, S½NE¼, E½NW¼, and NW¼NW¼;

Sec. 34, W½SW¼.

The areas described for Secretary's Order of June 4, 1930, aggregate 9,768.21 acres.

The total areas described for the Colorado River Storage Project aggregate 13,381.41 acres in Imperial and Riverside Counties, California.

Senator Wash Pump Storage Project

PLO No. 3262 of October 29, 1963 (k) (CARI-01051)

T. 14 S., R. 23 E.,

Sec. 36, SE¼SE¼SE¼.

T. 14½ S., R. 23 E.,

Sec. 36, N½NE¼NE¼ and NE¼NW¼NE¼.

The areas described for Public Land Order 3262 of October 29, 1963, contain 40.00 acres.

The total areas described for the Senator Wash Pump Storage Project contain 40.00 acres in Imperial County, California.

Yuma Reclamation Project

SO of January 31, 1903, as Modified by SOs of April 9, 1909, and April 5, 1910 (d) (CACA 7231)

T. 13 S., R. 16 E.,

Sec. 1, lots 2, 3, 6, 7, lots 9 thru 11, lots 14 thru 18, and lots 23 thru 25;

Sec. 5, lots 15 and 25;

Sec. 9, W½NW¼ and SE¼SW¼;

Sec. 21, SE¼SE¼;

Sec. 34, SE¼NE¼;

Sec. 35, SW¼SW¼.

T. 14 S., R. 16 E.,

Sec. 2, lot 4 and SE¼SW¼;

Sec. 11, lot 3;

Sec. 23, E½SW¼;

Sec. 26, E½NW¼ and E½SW¼;

Sec. 35, E½NW¼ and E½SW¼.

T. 15 S., R. 16 E.,

Sec. 2, lot 3, SE¼NW¼, and E½SW¼;

Sec. 11, lot 6 and NE¼NW¼;

Sec. 23, SE¼SE¼;

Sec. 25, W½NW¼ and W½SW¼SW¼;

Sec. 26, E½NE¼.

T. 16 S., R. 16 E.,

Sec. 1, lot 11;

Sec. 12, E½NW¼ and SW¼SE¼;

Sec. 13, lots 1 and 14, and SW¼SE¼;

Sec. 24, W½W½NE¼;

Sec. 25, NE¼NW¼.

T. 17 S., R. 16 E.,

Sec. 1, SE¼;

Sec. 10, NW¼SE¼;

Sec. 11, lot 17;

Sec. 12, lots 1 thru 4, N½, N½SE¼, and N½SW¼;

Sec. 13, lot 1;

Sec. 14, lot 1.

T. 14 S., R. 17E.,

Sec. 1, SW¼, S½NW¼, and SW¼SE¼;

Sec. 2, lots 3 and 4, S½NE¼, and NE¼SE4¼;

Sec. 12, E½NW¼, NE¼, N½SE¼, and SE¼SE¼.

T. 16 S., R. 17 E.,

Sec. 31, S½SE¼ and SE¼SW¼;

Sec. 32, S½SE¼, S½SW¼, and S½N½SW¼.

T. 16 S., R. 18 E.,

Sec. 31, lots 5 and 6, NE¼SW¼, N½SE¼, and S½NW¼;

Sec. 32, S½NE¼, S½NW¼, N½N½SW¼, and N½SE¼;

Sec. 33, SW¼ and S½SE¼;

Sec. 34, S½SE¼ and S½SW¼;

Sec. 35, S½SE¼ and S½SW¼.

T. 17 S., R. 17 E.,

Secs. 1 thru 5;

Sec. 6, lots 5 and 6, E½SW¼ and E½;

Sec. 7, lots 3 thru 9, NE¼, E½NW¼, NE¼SW¼, and N½SE¼;

Sec. 8, lots 1 thru 4, N½, N½SE¼, and N½SW¼;

Sec. 9, lots 1 thru 4 and N½;

Sec. 10, lots 1 thru 4 and N½;

Sec. 11, lots 1 thru 4 and N½;

Sec. 12, lots 1 thru 4, N½NE¼, and N½NW¼.

T. 15 S., R. 18 E.,

Sec. 3, lots 5 and 6, SE¼, SW¼NE¼, NE¼SW¼, and S½NW¼;

Sec. 4, lot 3;

Sec. 10, N½NE¼ and SE¼NE¼;

Sec. 11, SW¼SE¼, SW¼, NW¼NW¼, and S½NW¼;

Sec. 13, W½SW¼ and SE¼SW¼;

Sec. 14, N½SE¼, SE¼SE¼, NE¼, and NE¼NW¼;

Sec. 24, SE¼SE¼, N½SE¼, S½NE¼, NW¼NE¼, N½NW¼, and SE¼NW¼.

T. 17 S., R. 18 E.,

Sec. 1, lots 3 thru 5, N½, N½NE¼, N½NW¼, and SW¼SW¼;

Secs. 2 thru 5;

Sec. 6, lots 3 thru 6, E½, E½NW¼, and E½SW¼;

Sec. 7, lots 3 thru 7, N½NE¼, and NE¼NW¼;

Sec. 8, lots 1 thru 4, N½NE¼, and N½NW¼;

Sec. 9, lots 1 thru 4;

Sec. 10, lots 1 thru 4;

Sec. 11, lots 1 thru 4;

Sec. 12, lots 1 and 2.

T. 16 S., R. 19 E.,

Sec. 2, SW¼SW¼;

Sec. 3, lots 3 and 4, SW¼NE¼, S½NW¼, and S½;

Sec. 4, lots 1 thru 4, S½NE¼, S½NW¼, and S½;

Sec. 5, lots 3 thru 5, and SE¼NE¼;

Sec. 10, NE¼NE¼;

Sec. 11, all;

Sec. 12, SW¼SW¼;

Sec. 13, NW¼NW¼, S½NW¼, SW¼, and SW¼SE¼;

Sec. 14, E½NE¼ and NE¼NW¼NE¼;

Sec. 24, E½ and E½NW¼;

Sec. 25, NE¼NE¼ and S½;

Sec. 26, SE¼;

Sec. 31, lot 6, SE¼SW¼, and E½;

Sec. 32, all;

Sec. 33, S½SE¼ and S½SW¼;

Sec. 34, S½SE¼ and S½SW¼;

Sec. 35, S½SW¼ and E½.

T. 17 S., R. 19 E.,

Sec. 1, lots 1 thru 4, N½NE¼, N½NW¼, and S½NW¼;

Sec. 2, lots 1 thru 4, and N½;

Sec. 3, lots 1 thru 4, and N½;

Sec. 4, lots 1 thru 4, and N½;

Sec. 5, lots 1 thru 4, N½, N½SE¼, and N½SW¼;

Sec. 6, lots 1 thru 7, NE¼, E½NW¼, NE¼SW¼, N½SE¼.

The areas described for Secretary's Order of January 31, 1903, as modified by Secretary's Orders of April 9, 1909, and April 5, 1910, aggregate 25,784.45 acres.

SO of April 2, 1909, as Modified by SOs of April 5, 1910, and February 11, 1920 (e) (CACA 7232)

T. 9 S., R. 12 E.,

Sec. 30, portions of lots 1 and 2 of NW¼ south and west of State Highway 111, lots 1 and 2 of SW¼, portions of N½SE¼ south and west of State Highway 111, and S½SE¼;

Secs. 32 and 34;

T. 10 S., R. 12 E.,

Sec. 2, lots 1 and 2 of NE¼, lots 1 and 2 of NW¼, and S½;

Sec. 4, lots 1 and 2 of NE¼, lots 1 and 2 of NW¼, and S½;

Sec. 6, lots 1 and 2 of NE¼, lots 1 and 2 of NW¼, lots 1 and 2 of SW¼, and SE¼;

Secs. 8, 10, and 12.

T. 10 S., R. 15 E.,

Sec. 30, lot 6.

T. 12 S., R. 15 E.,

Sec. 2, SW¼SW¼.

The areas described for Secretary's Order of April 2, 1909, as modified by Secretary's Orders of April 5, 1910, and February 11, 1920, aggregate 5,540.76 acres.

SO of February 28, 1918 (f) (CACA 7234)

T. 15 S., R. 19 E.,

Sec. 19, lots 3 and 4, SE¼SW¼, and SW¼SE¼;

Sec. 29, SW¼NW¼, SW¼, and SW¼SE¼;

Sec. 30, NE¼SE¼, NE¼, and NE¼NW¼;

Sec. 32, NE¼NW¼ and NE¼;

Sec. 33, NW¼NW¼, S½NW¼, N½SW¼, SE¼SW¼, NW¼SE¼, and S½SE¼.

The areas described for Secretary's Order of February 28, 1918, contain 1,198.92 acres.

SO of March 15, 1919 (g) (CACA 7235)

T. 16 S., R. 20 E.,

Sec. 19, SW¼SW¼;

Sec. 21, SE¼, unsurveyed;

Sec. 22, SW¼, unsurveyed;

Sec. 26, NW¼NW¼, unsurveyed;

Sec. 27, N½, unsurveyed;

Secs 28 and 29;

Sec. 30, NW¼NW¼, S½NW¼, SW¼, and SW¼SE¼;

Secs. 31, 32, 33, and 36;

Secs. 44, 45, 49, 50, 51, 52, and 54 unsurveyed;

Sec. 55, NE¼ and N½NW¼, unsurveyed;

Sec. 60, lots 1 thru 4, N½NE¼, and N½NW¼.

T. 17 S., R. 20 E.,

Sec. 5, lots 1 thru 4, N½NW¼;

Sec. 6, lots 1 thru 4, N½NE¼, and N½NW¼.

T. 16. S., R. 21 E.,

Sec. 27, lots 1 thru 14, SE¼NW¼, SW¼NE¼, E½SW¼, and W½SE¼;

Sec. 31, lots 1 thru 7, NE¼, E½NW¼, NE¼SW¼, and N½SE¼;

Sec. 32, lots 3 thru 9, W½NE¼, NW¼, N½SW¼, and NW¼SE¼;

Sec. 33, lots 5 thru 20;

Sec. 34, lots 5 thru 14, W½NE¼, NW¼, N½SW¼, and NW¼SE¼.

The areas described for Secretary's Order of March 15, 1919, contains 12,439.00 acres

SO of October 19, 1920 (h)(CACA 7236)

T. 5 S., R. 7 E.,

Sec. 2, N½SW¼, SE¼SW¼, and SE¼;

Sec. 12, NW¼SE¼.

T. 6 S., R. 7 E.,

Sec. 20, NE¼NW¼, SE¼SW¼, and SW¼SE¼;

Sec. 28, W½NW¼, W½SW¼, and SE¼SW¼.

T. 5 S., R. 8 E.,

Sec. 18, E½SE¼.

T. 6 S., R. 8 E.,

Sec. 2, E½NW¼SE¼ and E½SE¼;

Sec. 12, W½.

T. 7 S., R. 8 E.,

Sec. 32, NE¼NE¼, E½NW¼NE¼, N½SE¼NE¼, and SE¼SE¼NE¼.

T. 6 S., R. 9 E.,

Sec. 18, lots 2 thru 4;

Sec. 20, S½NW¼ and SW¼;

Sec. 28, SW¼SW¼;

Sec. 34, SW¼SW¼.

T. 7 S., R. 9 E.,

Sec. 28, SE¼;

Sec. 32, S½NE¼ and SE¼.

T. 8 S., R. 9 E.,

Secs. 16 and 36.

T. 9 S., R. 9 E.,

Sec. 10, NE¼.

T. 8 S., R. 10 E.,

Sec. 2, portions of unnumbered lots of NW¼ south and west of State Highway 111, portions of SW¼ south and west of State Highway 111, and portions of SE¼ south and west of State Highway 111;

Sec. 4, all;

Sec. 6, lots 1 and 2 of SW¼, SE¼, and N½;

Secs. 8 and 10;

Sec. 12, portions of W½NW¼ south and west of State Highway 111, portions of W½SW¼ south and west of State Highway 111, and portions of NE¼SW¼ south and west of State Highway 111;

Sec. 14, W½NE¼, SE¼NE¼, W½NW¼, SE¼NW¼, and S½;

Sec. 16, E½, W½NW¼, SE¼NW¼, and SW¼;

Sec. 18, lots 1 and 2 of NW¼, lots 1 and 2 of SW¼, and E½;

Secs. 20, 22, 24, 26, and 28;

Sec. 30, lots 1 and 2 of NW¼, lots 1 and 2 of SW¼, and E½;

Sec. 32, lots 1 and 2 of SE¼, N½, SW¼, and N½SE¼;

Sec. 34, lots 1 thru 4, N½, N½SE¼, and N½SW¼;

Sec. 36, lots 1 thru 4, N½, N½SE¼, and N½SW¼.

T. 9 S., R. 10 E.,

Secs. 1 thru 5, unsurveyed;

Sec. 6, lots 1 and 2 of NW¼, lots 1 and 2 of SW¼, and E½, partly unsurveyed;

Sec. 8, all, partly unsurveyed;

Secs. 9 thru 13, unsurveyed;

Sec. 14, all, partly unsurveyed;

Sec. 15, N½, partly unsurveyed;

Sec. 16, all;

Sec. 18, lots 1 and 2 of NW¼, lots 1 and 2 of SW¼, and E½;

Secs. 20 and 22;

Sec. 24, all, partly unsurveyed;

Secs. 26 and 28;

Sec. 30, lots 1 and 2 of NW¼, lots 1 and 2 of SW¼, and E½;

Secs. 32, 34, and 36.

T. 10 S., R. 10 E.,

Sec. 2, lots 1 and 2 of NE¼, lots 1 and 2 of NW¼, and S½;

Sec. 4, lots 1 and 2 of NE¼, lots 1 and 2 of NW¼, and S½;

Secs. 10, 12, 14, and 24.

T. 8 S., R. 11 E.,

Sec. 2, N½, NE¼SW¼, S½SW¼, and SE¼;

Sec. 6, lots 1 and 2 of SW¼, N½, and SE¼;

Sec. 18, portions of lot 2 south and west of State Highway 111;

Sec. 20, portions of W½SW¼ south and west of State Highway 111 and portions of SE¼SW¼ south and west of State Highway 111;

Sec. 28, W½ and SE¼;

Sec. 30, lots 1 and 2 of NW¼, lots 1 and 2 of SW¼, E½;

Sec. 32, all.

T. 8 S., R. 12 E.,

Sec. 6, lots 3 thru 28;

Sec. 8, lots 8 and 12 thru 16, NW¼NW¼, and SE¼SW¼;

Sec. 20, lots 1 and 2 and SE¼NE¼;

Sec. 22, lots 14 thru 20;

Sec. 26, lots 10, 11, 12, 14 thru 17, 24 thru 29, and 31 thru 34.

T. 9 S., R 11 E.,

Sec. 4, SW¼SW¼;

Sec. 6, lots 1 and 2 of NE¼, lots 1 and 2 of NW¼, lots 1 and 2 of SW¼, and SE¼;

Sec. 7, SW¼ partly unsurveyed;

Sec. 8, all;

Sec. 10, portions of SW¼NE¼ south and west of State Highway 111, S½NW¼, SW¼, portions of N½SE¼ south and west of State Highway 111, and S½SE¼;

Sec. 14, portions of N½NW¼ south and west of State Highway 111, portions of the SE¼ south and west of State Highway 111, S½NW¼, and SW¼;

Secs. 18, 19, 20, and 22, unsurveyed;

Sec. 24, portions of SW¼NW¼NW¼ south and west of State Highway 111, portions of S½NW¼ south and west of State Highway 111, portions of SW¼ south and west of State Highway 111, portions of W½SE¼ south and west of State Highway 111, and portions of SE¼SE¼, south and west of State Highway 111;

Sec. 26, all;

Sec. 28, all, partly unsurveyed;

Secs. 29 thru 34, unsurveyed.

T. 10 S., R. 11 E.,

Sec. 2, lots 1 and 2 of NE¼, lots 1 and 2 of NW¼, and S½;

Sec. 4, lots 1 and 2 of NE¼, lots 1 and 2 of NW¼, and S½;

Sec. 6, lots 1 and 2 of NE¼, lots 1 and 2 of NW¼, lots 1 and 2 of SW¼, and SE¼;

Secs. 8, 10, 12, and 14;

Sec. 18, lots 1 and 2 of NW¼, lots 1 and 2 of SW¼, and E½;

Secs. 20, 22, 24, 26, and 28;

Sec. 30, lots 1 and 2 of NW¼, lots 1 and 2 of SW¼, and E½;

Secs. 32, 34 and 36.

T. 11 S., R. 11 E.,

Sec. 2, lots 1 and 2 of NE¼, lots 1 and 2 of NW¼, and S½;

Sec. 4, lots 1 and 2 of NE¼, lots 1, and 2 of NW¼, and S½;

Sec. 6, lots 1 and 2 of NE¼, lots 1 and 2 of NW¼, lots 1 and 2 of SW¼, and SE¼;

Secs. 8, 10, 12, and 14;

Sec. 16, NE¼, E½NW¼, N½SE¼, and SE¼SE¼;

Sec. 18, lots 1 and 2 of NW¼, lots 1 and 2 of SW¼, and E½;

Secs. 20, 22, 24, 26, and 28;

Sec. 30, lots 1 and 2 of NW¼, lots 1 and 2 of SW¼, and E½;

Secs. 32 and 34.

T. 12 S., R. 11 E.,

Sec. 2, lots 3 thru 7;

Sec. 4, lots 1 and 2 of NE¼, lots 1 and 2 of NW¼, N½SW¼, and SW¼SW¼;

Sec. 12, lot 1.

T. 11 S., R. 12 E.,

Sec. 2, lots 1 and 2 of NE¼, lots 1 and 2 of NW¼, and S½;

Sec. 4, lots 1 and 2 of NE¼, lots 1 and 2 of NW¼, and S½;

Sec. 6, lots 1 and 2 of NE¼, lots 1 and 2 of NW¼, lots 1 and 2 of SW¼, and SE¼;

Secs. 8, 10, 12, 14, and 16;

Sec. 18, lots 1 and 2 of NW¼, lots 1 and 2 of SW¼, and E½;

Secs. 20, 22, 24, 26, and 28;

Sec. 30, lots 1 and 2 of NW¼, lots 1 and 2, of SW¼, and E½;

Secs. 32 and 34.

T. 12 S., R. 12 E.,

Sec. 2, lots 3 thru 6, S½NE¼, S½NW¼, and SW¼;

Sec. 4, lots 1 and 2 of NE¼, lots 1 and 2 of NW¼, and S½;

Sec. 6, lots 1 and 2 of NE¼, lots 1 and 2 of NW¼, lots 1 and 2 of SW¼, and SE¼.

T. 15 S., R. 12 E.,

Sec. 31, N½N½SE¼, S½S½NE¼.

T. 16 S., R. 12 E.,

Sec. 29, S½SE¼;

Sec. 33, SW¼NE¼, NE¼NW¼, and NE¼SE¼;

Sec. 34, NW¼SW¼.

T. 14 S., R. 13 E.,

Sec. 7, NE¼SE¼;

Sec. 32, lot 1 and SE¼SE¼;

Sec. 33, N½SW¼, NW¼NW¼, and SE¼NW¼.

T. 17 S., R. 13 E.,

Sec. 17, SW¼NW¼.

The areas described for Secretary's Order of October 19, 1920, aggregate 85,365.40 acres.

The total areas described for Yuma Reclamation Project aggregate 130,328.53 acres in Imperial and Riverside Counties, California.

The Areas Described Aggregate 145,644.03 Acres in Imperial, and Riverside Counties, California

The use of a rights-of-way or an interagency or cooperative agreement would not adequately constrain non-discretionary uses that may result in disturbance of the lands embraced within the Reclamation project areas.

There are no suitable alternative sites as the described lands contain the resource values to be protected.

No additional water rights will be needed to fulfill the purpose of the requested withdrawal.

For a period until June 9, 2022, all persons who wish to submit comments, suggestions, or objections in connection with the proposed withdrawal extensions may present their views in writing to the BLM State Director at the address indicated earlier.

Before including your address, phone number, email address, or other personal identifying information in your comment, you should be aware that your entire comment—including your personal identifying information—may be made publicly available at any time. Individuals who submit written comments may request confidentiality by asking us in your comment to withhold your personal identifying information from public review; however, we cannot guarantee that we will be able to do so.

Notice is hereby given that a virtual (online) public meeting in connection with the proposed withdrawal extensions will be held on April 25, 2022, at 5 p.m. PT. The BLM will publish a notice of the time and online venue in a local newspaper a minimum of 30 days before the scheduled date of the meeting.

The withdrawal proposal will be processed in accordance with the regulation set-forth in 43 CFR part 2300.

(Authority: 43 CFR 2310.3-1(a))

Karen E. Mouritsen,
California State Director.

[FR Doc. 2022-05117 Filed 3-10-22; 8:45 am]

BILLING CODE 4310-40-P